ENVIRONMENTAL PROTECTION AGENCY

[EPA-HQ-OW-2025-0039] [FRL OP-OFA-160]

Availability of a Programmatic Environmental Assessment (PEA) and Finding of No Significant Impact (FONSI)

AGENCY: Environmental Protection Agency (EPA).

ACTION: Notice of availability of Programmatic Environmental Assessment (PEA)/Finding of No Significant Impact (FONSI) (EPA No. N2025023).

SUMMARY: The Environmental Protection Agency (EPA) has prepared a Programmatic Environmental Assessment (PEA) (EPA No. N2025023) to analyze the potential environmental impacts related to the issuance of grant funding for the planning, design, and construction of eligible drinking water, wastewater, and stormwater infrastructure projects, and water quality protection projects under the Community Project Funding (CPF)/Congressionally Directed Spending (CDS), otherwise known as the Community Grants Program. Projects receiving Community Grants Program funding must also comply with applicable federal laws, regulations, Executive Orders, and other state and local environmental reviews. Based on the environmental impact analysis in the PEA, the EPA has made a preliminary determination that no significant environmental impacts are anticipated from the issuance of Community Grants Program funding. This notice initiates the 30-day review period and invites comments from Federal, State, and local agencies, Tribes, and the public regarding the EPA's preliminary determination.

DATES: Comments must be received on or before May 19, 2025.

ADDRESSES: You may send comments, identified by Docket ID No. EPA-HQ-OW-2025-0039, by any of the following methods:

• Federal eRulemaking Portal: https://www.regulations.gov/ (our preferred method). Follow the online instructions for submitting comments.

• Email: communitygrantshq@epa.gov. Include Docket ID No. EPA-HQ-OW-2025-0039 in the subject line of the message.

• Mail: U.S. Environmental Protection Agency, EPA Docket Center, Community Grants Program Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov/, including any personal information provided. For detailed instructions on sending comments and additional information on the notice, see the “Public Participation” heading of the SUPPLEMENTARY INFORMATION section of this document.

FOR FURTHER INFORMATION CONTACT: Julia Zolandz, Water Infrastructure Division, Office of Wastewater Management, Community Grants Program, Mail Code: 4204M, Environmental Protection Agency, 1200 Pennsylvania Avenue NW, Washington, DC 20460; telephone number: 202-565-2238; email address communitygrantshq@epa.gov.

SUPPLEMENTARY INFORMATION:

I. Public Participation

Written Comments

Submit your comments, identified by Docket ID No. EPA-HQ-OW-2025-0039, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

Congress appropriates funding for specifically named community water infrastructure projects known as Community Project Funding (CPF)/Congressionally Directed Spending (CDS) items, known hereafter as Community Grants Program projects. These Community Grants Program projects are identified on an annual basis in Annual Appropriation Acts and the grant authority for the program is identified within the Annual Appropriations Acts themselves. The Annual Appropriations Acts direct funding towards these projects, which are designated for the planning, design, and construction of drinking water, wastewater, and stormwater infrastructure, and water quality protection projects. For a project to be eligible for Community Grants Program funding, the project must be identified in the Annual Appropriations Acts.

The proposed federal action under consideration in this PEA is approving or denying Community Grants Program applications by either awarding or not awarding the Community Grants Program funding. In the PEA, the EPA analyzed the potential adverse and beneficial environmental impacts of the issuance of grant funding for the planning, design, and construction of eligible drinking water, wastewater and stormwater infrastructure projects, and water quality protection projects. The PEA presents a broad and high-level review of information on a nationwide basis on existing conditions and discusses potential impacts and mitigation measures that might typically occur during construction and operation of broad project types.

The environmental review process, which is documented by the PEA, indicates that no potential significant adverse environmental impacts are anticipated from the proposed action. Based on the environmental impact analysis in the PEA, the EPA has determined that no significant environmental impacts are anticipated from the issuance of funding under the Community Grants Program and the proposed action does not constitute a major Federal action significantly affecting the quality of the human environment, making the preparation of an Environmental Impact Statement (EIS) unnecessary. Therefore, the EPA is issuing a preliminary FONSI.

An electronic copy of the PEA and preliminary FONSI (EPA No. N2025023) are available for download from EPA's NEPA Compliance Database at https://cdxapps.epa.gov/cdx-enepa-II/public/action/nepa/details?nepaId=503414.

Andrew D. Sawyers,
Director, Office of Wastewater Management.

[FR Doc. 2025-06703 Filed 4-17-25; 8:45 am]

BILLING CODE 6560-50-P